DEPARTMENT OF COMMERCE

International Trade Administration

[A-823-809]

Steel Concrete Reinforcing Bars From Ukraine; Preliminary Results of the Sunset Review of Antidumping Duty Order

AGENCY: Import Administration, International Trade Administration, Department of Commerce.

SUMMARY: On August 1, 2006, the Department of Commerce (“the Department”) initiated a sunset review of the antidumping duty order on steel concrete reinforcing bars from Ukraine. On the basis of the notice of intent to participate, and complete substantive responses filed on behalf of the domestic and respondent interested parties, the Department is conducting a full sunset review of the antidumping duty order pursuant to section 751(c) of the Tariff Act of 1930, as amended (“the Act”) and 19 CFR 351.218(e)(2)(i). As a result of this sunset review, the Department preliminarily finds that revocation of the antidumping duty order would likely lead to continuation or recurrence of dumping at the level listed below in the section entitled “Preliminary Results of Review.”

EFFECTIVE DATE: November 27, 2006.

FOR FURTHER INFORMATION CONTACT: Audrey R. Twyman, Damian Felton, or Brandon Farlander, AD/CVD Operations, Office 1, Import Administration, International Trade Administration, U.S. Department of Commerce, 14th Street & Constitution Avenue, NW, Washington, DC 20230; telephone: 202-482-3534, 202-482-0133, and 202-482-0182, respectively.

SUPPLEMENTARY INFORMATION:

Background

On August 1, 2006, the Department published its notice of initiation of the sunset review of the antidumping duty order on steel concrete reinforcing bars from Ukraine, in accordance with section 751(c) of the Act. See Initiation of Five-Year (“Sunset”) Reviews, 71 FR 43443 (August 1, 2006) (“Notice of Initiation”).

The Department received a notice of intent to participate from the following domestic parties: The Rebar Trade Action Coalition and its individual producer members, Nucor Corporation, CMC Steel Group, and Gerdau Ameristeel, as well as domestic producers TAMCO Steel and Schnitzer Steel Industries, Inc. (“Schnitzer”) (“domestic interested parties”), within the deadline specified in 19 CFR 351.218(d)(1)(i). These companies claimed interested party status under section 771(9)(C) of the Act, as manufacturers of a domestic-like product in the United States.

The Department received a complete substantive response to the notice of initiation from the domestic interested parties within the 30-day deadline specified in 19 CFR 351.218(d)(3)(i). In this response, Cascade Steel Rolling Mills, Inc. (“Cascade”) was substituted for Schnitzer as a domestic interested party. Cascade is a wholly owned subsidiary of Schnitzer. Also, Steel Dynamics, Inc. (“SDI”) was added as a domestic producer. Because SDI did not file a notice of intent to participate in this review, it is not eligible to file a substantive response. See 19 CFR 351.218(d)(iii)(A). Therefore, the domestic interested parties are now the Rebar Trade Action Coalition and its individual producer members Nucor Corporation, CMC Steel Group, and Gerdau Ameristeel, as well as TAMCO Steel, and Cascade. The Department received a complete substantive response from respondent interested party, Open Joint Stock Company “Mittal Steel Kryviy Rih” ¹ (“Mittal Steel” or the “respondent interested party”), within the deadline specified in 19 CFR 351.218(d)(3)(i). On September 5, 2006, the Department received a rebuttal to Mittal Steel's substantive response from the domestic interested parties.

¹ Mittal Steel notified the Department in its substantive response that as of November 2005, its name was changed due to an ownership change. Mittal Steel stated that its former name was “Krivorozhstal” Steel Works. The Department has neither conducted a changed circumstances review for this company, nor made a successor-in-interest determination.

19 CFR 351.218(e)(1)(ii)(A) provides that the Secretary normally will conclude that respondent interested parties have provided an adequate response to a notice of initiation where the Department receives complete substantive responses from respondent interested parties accounting, on average, for more than 50 percent, by volume, or value, if appropriate, of the total exports of the subject merchandise to the United States over the five calendar years preceding the year of publication of the notice of initiation. On September 20, 2006, the Department found that Mittal Steel accounted for more than 50 percent of exports by volume of the subject merchandise from Ukraine to the United States, dependent upon it demonstrating that it exported to the United States during the period. See Memorandum to Susan H. Kuhbach, Director, from Damian Felton entitled, “Adequacy Determination in Antidumping Duty Sunset Review of Steel Concrete Reinforcing Bars from Ukraine,” (September 20, 2006).

In its substantive response, Mittal Steel also notified the Department of a name change that occurred in November 2005. Prior to this date, the company was named “Krivorozhstal” Steel Works. In November 2005, with Mittal Steel's purchase of the company, the name became Mittal Steel Kryviy Rih.

On September 28, 2006, the Department sent a letter to Mittal Steel requesting proof of order date, invoice date, quantity, value, shipment date, and payment date for its reported shipments. The Department also requested that Mittal Steel confirm that the merchandise was included in the scope of the order. On October 20, 2006, Mittal Steel submitted the requested documentation.

Because the Department has no evidence contradicting Mittal Steel's claim that it is the successor to “Krivorozhstal” Steel Works, which made the 2001 shipments, we are equating Mittal and “Krivorozhstal” Steel Works solely for the purpose of determining whether the respondent interested party submitted an adequate response to our notice of initiation. Based on its response to our request for supporting documentation, the Department determines that Mittal Steel has demonstrated that it represents more than 50 percent of the total exports of subject merchandise from Ukraine to the United States during this five-year sunset review period (2001-2005). Therefore, in accordance with 19 CFR 351.218(e)(2)(i), the Department is conducting a full sunset review of this antidumping duty order.

The final results in the full sunset review of this antidumping duty order are due on or before March 29, 2007.

Scope of the Order

The product covered by this order is all steel concrete reinforcing bars sold in straight lengths, currently classifiable in the Harmonized Tariff Schedule of the United States (“HTSUS”) under item numbers 7214.20.00, 7228.30.8050, 7222.11.0050, 7222.30.0000, 7228.60.6000, 7228.20.1000, or any other tariff item number. Specifically excluded are plain rounds (i.e., non-deformed or smooth bars) and rebar that has been further processed through bending or coating. HTSUS subheadings are provided for convenience and customs purposes. The written description of the scope of the order is dispositive.

Analysis of Comments Received

All issues raised in this sunset review are addressed in the “Issues and Decision Memorandum for the Sunset Review of the Antidumping Duty Order on Steel Concrete Reinforcing Bars from Ukraine; Preliminary Results,” from Stephen J. Claeys, Deputy Assistant Secretary for Import Administration, to David M. Spooner, Assistant Secretary for Import Administration (November 20, 2006) (“Decision Memo”), which is hereby adopted by this notice. The issues discussed in the Decision Memo include the likelihood of continuation or recurrence of dumping and the magnitude of the margin likely to prevail if the antidumping duty order were revoked. Parties can find a complete discussion of all issues raised in this sunset review and the corresponding recommendations in this public memo, which is on file in room B-099 of the main Department building. In addition, a complete version of the Decision Memo can be accessed directly on the Web at http://ia.ita.doc.gov/frn. The paper copy and electronic version of the Decision Memo are identical in content.

Preliminary Results of Review

The Department preliminarily determines that revocation of the antidumping duty order on steel concrete reinforcing bars from Ukraine is likely to lead to continuation or recurrence of dumping at the following weighted-average margin:

Manufacturers/producers/exporters | Weighted-average margin (percent)
All Others Rate, including Mittal Steel Kryviy Rih and “Krivorozhstal” Steel Works ² | 41.69
² As of February 1, 2006, Ukraine graduated to market economy status. See Final Results of Inquiry Into Ukraine's Status as a Non-Market Economy Country, 71 FR 9520 (February 24, 2006). As a result, the Ukraine wide rate is now the All Others rate. Mittal Steel is considered part of the all others rate because a successor-in-interest determination has not been made. See, e.g., Cut-to-Length Carbon Steel Plate from Belgium, Brazil, Finland, Germany, Mexico, Poland, Romania, Spain, Sweden, and the United Kingdom and Carbon Steel Plate from Taiwan; Second Five-Year (Sunset) Reviews of Antidumping Duty Orders and Antidumping Finding; Final Results, 71 FR 11577, 11579 (March 8, 2006) (explaining that Duferco is subject to the all others rate because the Department had not yet conducted a changed circumstances review to determine the successor-in-interest to Forges de Clabecq, S.A.).

Any interested party may request a hearing within 30 days of publication of this notice in accordance with 19 CFR 351.310(c). Interested parties may submit case briefs no later than 50 days after the date of publication of this notice, in accordance with 19 CFR 351.309(c)(1)(i). Rebuttal briefs, which must be limited to issues raised in the case briefs, may be filed no later than 5 days after the case briefs, in accordance with 19 CFR 351.309(d)(1). Any hearing, if requested, will be held two days after rebuttal briefs are due, in accordance with 19 CFR 351.310(d)(1). The Department will issue a notice of final results of this sunset review, which will include the results of its analysis of issues raised in any such briefs, no later than March 29, 2007.

This five-year (“sunset”) review and notice are in accordance with sections 751(c), 752(c), and 777(i)(1) of the Act.

Date: November 20, 2006.
David M. Spooner,
Assistant Secretary for Import Administration

[FR Doc. E6-20011 Filed 11-24-06; 8:45 am]

BILLING CODE 3510-DS-P